DEPARTMENT OF ENERGY

Federal Energy Regulatory Commission

Combined Notice of Filings #1

Take notice that the Commission received the following electric corporate filings:

Docket Numbers: EC22-115-000.

Applicants: MN8 Energy LLC.

Description: MN8 Energy LLC submits supplement to Joint Application for Authorization Under Section 203 of the Federal Power Act.

Filed Date: 9/12/22.

Accession Number: 20220912-5207.

Comment Date: 5 p.m. ET 9/22/22.

Take notice that the Commission received the following exempt wholesale generator filings:

Docket Numbers: EG22-221-000.

Applicants: DLS—Jean Duluth Project Co, LLC.

Description: DLS—Jean Duluth Project Co, LLC submits Notice of Self-Certification of Exempt Wholesale Generator Status.

Filed Date: 9/14/22.

Accession Number: 20220914-5097.

Comment Date: 5 p.m. ET 10/5/22.

Docket Numbers: EG22-222-000.

Applicants: DLS—Laskin Project Co, LLC.

Description: DLS—Laskin Project Co, LLC submits Notice Self-Certification of Exempt Wholesale Generator Status.

Filed Date: 9/14/22.

Accession Number: 20220914-5098.

Comment Date: 5 p.m. ET 10/5/22.

Docket Numbers: EG22-223-000.

Applicants: DLS—Sylvan Project Co, LLC.

Description: DLS—Sylvan Project Co, LLC submits Notice of Self-Certification of Exempt Wholesale Generator Status.

Filed Date: 9/14/22.

Accession Number: 20220914-5101.

Comment Date: 5 p.m. ET 10/5/22.

Take notice that the Commission received the following electric rate filings:

Docket Numbers: ER22-2443-001.

Applicants: Virginia Electric and Power Company, PJM Interconnection, L.L.C.

Description: Tariff Amendment: Virginia Electric and Power Company submits tariff filing per 35.17(b): Dominion submits Ministerial Amendment to Effective Date in ER22-2443 to be effective 1/1/2021.

Filed Date: 9/14/22.

Accession Number: 20220914-5056.

Comment Date: 5 p.m. ET 9/26/22.

Docket Numbers: ER22-2703-000.

Applicants: Pattern Energy Management Services LLC.

Description: Supplement to August 23, 2022, tariff filing per 35.12: Application for MBR Authorization and Waivers to be effective 8/24/2022 of Pattern Energy Management Services LLC.

Filed Date: 9/7/22.

Accession Number: 20220907-5118.

Comment Date: 5 p.m. ET 10/5/22.

Docket Numbers: ER22-2845-000.

Applicants: New York Independent System Operator, Inc., Central Hudson Gas & Electric Corporation.

Description: § 205(d) Rate Filing: New York Independent System Operator, Inc. submits tariff filing per 35.13(a)(2)(iii: NYISO-Central Hudson Joint 205 of Amended & Restated TPIA2605—CEII to be effective 9/1/2022.

Filed Date: 9/14/22.

Accession Number: 20220914-5032.

Comment Date: 5 p.m. ET 10/5/22.

Docket Numbers: ER22-2846-000.

Applicants: PJM Interconnection, L.L.C.

Description: § 205(d) Rate Filing: Original Upgrade CSA, SA No. 6596; Queue No. MISO J878 to be effective 8/15/2022.

Filed Date: 9/14/22.

Accession Number: 20220914-5048.

Comment Date: 5 p.m. ET 10/5/22.

Docket Numbers: ER22-2847-000.

Applicants: NextEra Energy Transmission MidAtlantic Indiana, Inc., Northern Indiana Public Service Company LLC, PJM Interconnection, L.L.C.

Description: § 205(d) Rate Filing: NextEra Energy Transmission MidAtlantic Indiana, Inc. submits tariff filing per 35.13(a)(2)(iii: NEET MidAtlantic and NIPSCO submit SA No. 6598 CAA to be effective 8/25/2022.

Filed Date: 9/14/22.

Accession Number: 20220914-5050.

Comment Date: 5 p.m. ET 10/5/22.

Docket Numbers: ER22-2848-000.

Applicants: Nevada Power Company.

Description: § 205(d) Rate Filing: Service Agreement No. 20-00037, Amended Restated EPC Agmt NPC and 302PN 8me LLC to be effective 11/14/2022.

Filed Date: 9/14/22.

Accession Number: 20220914-5062.

Comment Date: 5 p.m. ET 10/5/22.

Docket Numbers: ER22-2849-000.

Applicants: Mid-Atlantic Interstate Transmission, LLC, PJM Interconnection, L.L.C.

Description: § 205(d) Rate Filing: Mid-Atlantic Interstate Transmission, LLC submits tariff filing per 35.13(a)(2)(iii: Mid-Atlantic Interstate Transmission submits Revised IA SA No. 4577 to be effective 11/14/2022.

Filed Date: 9/14/22.

Accession Number: 20220914-5063.

Comment Date: 5 p.m. ET 10/5/22.

Docket Numbers: ER22-2850-000.

Applicants: Fall River Solar, LLC.

Description: Baseline eTariff Filing: Fall River Solar MBR Application Filing to be effective 9/15/2022.

Filed Date: 9/14/22.

Accession Number: 20220914-5074.

Comment Date: 5 p.m. ET 10/5/22.

Docket Numbers: ER22-2851-000.

Applicants: Alabama Power Company, Georgia Power Company, Mississippi Power Company.

Description: Tariff Amendment: Alabama Power Company submits tariff filing per 35.15: Happy Hollow Solar Center LGIA Termination Filing to be effective 9/14/2022.

Filed Date: 9/14/22.

Accession Number: 20220914-5083.

Comment Date: 5 p.m. ET 10/5/22.

Docket Numbers: ER22-2852-000.

Applicants: Tri-State Generation and Transmission Association, Inc.

Description: § 205(d) Rate Filing: Amendment to Rate Schedule FERC No. 45 to be effective 11/14/2022.

Filed Date: 9/14/22.

Accession Number: 20220914-5087.

Comment Date: 5 p.m. ET 10/5/22.

Docket Numbers: ER22-2853-000.

Applicants: International Transmission Company.

Description: § 205(d) Rate Filing: Filing of a CIAC Agreement with DTE to be effective 11/14/2022.

Filed Date: 9/14/22.

Accession Number: 20220914-5092.

Comment Date: 5 p.m. ET 10/5/22.

Docket Numbers: ER22-2854-000.

Applicants: Basin Electric Power Cooperative.

Description: Tariff Amendment: Basin Electric Notice of Cancellation of Service Agreement Nos. 5, 21, 46 & 47 to be effective 8/17/2022.

Filed Date: 9/14/22.

Accession Number: 20220914-5102.

Comment Date: 5 p.m. ET 10/5/22.

Docket Numbers: ER22-2855-000.

Applicants: Public Service Company of Oklahoma.

Description: § 205(d) Rate Filing: PSO-AEPOTC-WFEC Doxey Delivery Point Agreement to be effective 8/19/2022.

Filed Date: 9/14/22.

Accession Number: 20220914-5114.

Comment Date: 5 p.m. ET 10/5/22.

Take notice that the Commission received the following electric securities filings:

Docket Numbers: ES22-69-000.

Applicants: GridLiance High Plains LLC.

Description: Application Under Section 204 of the Federal Power Act for Authorization to Issue Securities of GridLiance High Plains LLC.

Filed Date: 9/13/22.

Accession Number: 20220913-5150.

Comment Date: 5 p.m. ET 10/4/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 14, 2022.
Debbie-Anne A. Reese,
Deputy Secretary.

[FR Doc. 2022-20355 Filed 9-20-22; 8:45 am]

BILLING CODE 6717-01-P